DEPARTMENT OF AGRICULTURE

Foreign Agricultural Service

7 CFR Parts 1560 and 1570

[Docket No. FAS-2025-0001]

RIN 0551-AB08

Obsolete Provisions

AGENCY: Foreign Agricultural Service (FAS), Department of Agriculture.

ACTION: Final rule.

SUMMARY: FAS is in the process of reviewing all regulations within its purview to reduce regulatory burdens and costs. Pursuant to this review, FAS has identified the following obsolete, unnecessary, and outdated provisions in title 7 of the Code of Federal Regulation (CFR). FAS is removing these provisions to streamline and update title 7.

DATES: This rule is effective July 18, 2025.

FOR FURTHER INFORMATION CONTACT: Kenneth Vernon, Senior Director, General Services Division, Kenneth.Vernon@usda.gov.

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary. FAS has undertaken such a review and is accordingly removing the following regulations from title 7.

Regulatory Certifications

Executive Orders

This document does not meet the criteria for a significant regulatory action as specified by Executive Order (E.O.) 12866. This action also has no federalism or tribal implications and will not impose substantial unreimbursed compliance costs on States, local governments, or Indian tribal governments. Therefore, impact statements are not required under E.O. 13132 or 13175.

Environmental Evaluation

This rule will have no significant effect on the human environment; therefore, neither an environmental assessment nor impact statement is required.

Paperwork Reduction Act

This rule does not contain reporting or recordkeeping requirements subject to the Paperwork Reduction Act.

Explanation of Provisions

The regulations removed are:

Procedures To Monitor Canadian Fresh Fruit and Vegetable Imports, 7 CFR Part 1560

The regulations at 7 CFR part 1560 implemented section 301(a) of the United States-Canda Free-Trade Agreement Implementation Act of 1988 (Pub. L. 100-449), which provided for the imposition of temporary duties on imports of Canadian fresh fruit and vegetables when certain specified conditions were met. The statutory authority underlying the regulations expired in 2009. Therefore, pursuant to the preamble, these provisions are obsolete and unnecessary.

Export Bonus Programs, 7 CFR 1570

The regulations at 7 CFR part 1570 pertain to two initiatives formerly administered by FAS, the Sunflower Oil Assistance Program (SOAP) and Cottonseed Oil Assistance Program (COAP). These programs initially were authorized in the Disaster Assistance Act of 1988 (Pub. L. 100-387), 7 U.S.C. 1464 note. The authority for the programs expired at the close of fiscal year 1996. Therefore, pursuant to the preamble, these provisions are obsolete and unnecessary.

List of Subjects

7 CFR Part 1560

Canada, Customs duties and inspection, Fruits, Imports, Trade agreements, Vegetables.

7 CFR Part 1570

Agricultural commodities, Exports, Foreign trade, International trade.

PART 1560—[REMOVED AND RESERVED]

PART 1570—[REMOVED AND RESERVED]

For the reasons stated in the preamble, and under the authority of 7 U.S.C. 1464, note, The Disaster Assistance Act of 1988 (Pub. L. 100-387), FAS removes and reserves 7 CFR parts 1560 and 1570.

Signed in Washington, DC, this 14th day of July 2025.
Jason Hafemeister,
Acting Administrator.

[FR Doc. 2025-13461 Filed 7-17-25; 8:45 am]

BILLING CODE 3410-10-P